DEPARTMENT OF ENERGY

Federal Energy Regulatory Commission

[Docket No. RP00-347-002]

Canyon Creek Compression Co.; Notice of Compliance Filing

December 11, 2001.

Take notice that on December 5, 2001, Canyon Creek Compression Company (Canyon) tendered for filing to be part of its FERC Gas Tariff, Third Revised Volume No. 1, certain tariff sheets, to be effective November 1, 2001.

Canyon states that the purpose of this filing is to comply with the Commission's “Second Order on Compliance with Order No. 637,” issued in the captioned docket on November 23, 2001.

Canyon states that copies of the filing are being mailed to each person designated on the official service list.

Any person desiring to protest said filing should file a protest with the Federal Energy Regulatory Commission, 888 First Street, NE., Washington, DC 20426, in accordance with § 385.211 of the Commission's rules and regulations. All such protests must be filed in accordance with § 154.210 of the Commission's regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 01-31077 Filed 12-17-01; 8:45 am]

BILLING CODE 6717-01-P